DEPARTMENT OF TRANSPORTATION

Federal Aviation Administration

14 CFR Part 39

[Docket No. FAA-2016-0461; Directorate Identifier 2014-NM-159-AD]

RIN 2120-AA64

Airworthiness Directives; Airbus Airplanes

AGENCY: Federal Aviation Administration (FAA), DOT.

ACTION: Supplemental notice of proposed rulemaking (SNPRM); reopening of comment period.

SUMMARY: We are revising an earlier proposed airworthiness directive (AD) for all Airbus Model A319, A320, and A321 series airplanes. This action revises the notice of proposed rulemaking (NPRM) by reducing the compliance time for replacing the main landing gear (MLG) actuator fitting and removing an inspection requirement for certain airplanes. We are proposing this AD to address the unsafe condition on these products. Since these actions impose an additional burden over those proposed in the NPRM, we are reopening the comment period to allow the public the chance to comment on these proposed changes.

DATES: We must receive comments on this SNPRM by May 22, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-0461; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-0461; Directorate Identifier 2014-NM-159-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 by adding an AD that would apply to all Airbus Model A319, A320, and A321 series airplanes. The NPRM published in the Federal Register on January 28, 2016 (81 FR 4901) (“the NPRM”). The NPRM was prompted by a report that an MLG door could not be closed due to rupture of the actuator fitting. The NPRM proposed to require repetitive inspections for cracking of the MLG door actuator fitting and its components, and corrective actions if necessary. The NPRM also proposed to require eventual replacement of all affected MLG door actuator fittings with new monoblock fittings, which would terminate the repetitive inspections.

Actions Since the NPRM Was Issued

Since the NPRM was issued, the European Aviation Safety Agency (EASA), which is the Technical Agent for the Member States of the European Union, has issued EASA Airworthiness Directive 2016-0182, dated September 13, 2016 (referred to after this as the Mandatory Continuing Airworthiness Information, or “the MCAI”), to correct an unsafe condition for all Airbus Model A319, A320, and A321 series airplanes. The MCAI states:

On one A320 aeroplane, it was reported that one of the main landing gear (MLG) doors could not be closed. Investigations revealed the rupture of the actuator fitting at the actuator attachment area on the door side. The MLG door is attached to the aeroplane by 2 (two) hinge fittings.

This condition, if not corrected, could, under certain circumstances, lead to detachment of a MLG door from the aeroplane, possibly resulting in damage to the aeroplane, and/or injury to persons on the ground.

Prompted by these findings, [Direction Générale de l'Aviation Civile] France issued * * * [an AD] * * *, to require a MLG door actuator fitting inspection for cracks and to check the grain direction on a batch of aeroplanes. Subsequently, DGAC France issued * * * [an AD], retaining the requirements of DGAC France AD * * *, which was superseded, to require an inspection of the lower part of the MLG door actuator fitting.

After that [DGAC] AD was issued, additional investigations revealed that damage could also appear on the nerve area [of the forward monoblock fitting], in the upper part of the MLG door actuator fitting in the area of the hinge.

Consequently, DGAC France issued F-2003-434, dated December 10, 2003 [http://ad.easa.europa.eu/ad/F-2003-454] (EASA approval 2003-1436), retaining the requirements of [a] DGAC France AD * * *, which was superseded, to require additional repetitive inspections. That [DGAC] AD also included an optional terminating action, by replacing the MLG door actuator fittings in accordance with the instructions of Airbus Service Bulletin (SB) A320-52-1073.

After DGAC France AD F-2003-434 was issued, in the framework of the extended service goal campaign, it was decided to make replacement of the MLG door actuator fittings a required modification. Consequently, EASA issued AD 2014-0166 * * *, retaining the requirements of DGAC France AD F-2003-434, which was superseded, and requiring replacement of the MLG door actuator fittings with new monoblock fittings, which constitutes terminating action for the repetitive inspections.

After EASA AD 2014-0166 [corresponding to the NPRM] was issued, errors were identified in the compliance time definitions. Replacement of the MLG door actuator fittings was required “before exceeding 48,000 flight cycles (FC) or 96,000 flight hours (FH), whichever occurs later since aeroplane first flight”, which should have been “whichever occurs first”. Furthermore, since the MLG door is an interchangeable part, the compliance time must be defined as FC/FH accumulated by the MLG door. Furthermore, it was discovered that one of the required inspection[s] is applicable only to a batch of MLG door fittings.

For the reason described above, this AD retains the requirements of EASA AD 2014-0166, which is superseded, but requires accomplishment of the terminating action within more stringent compliance times, and reduce[s] the applicability of one of the required inspection[s].

You may examine the MCAI in the AD docket on the Internet at http://www.regulations.gov by searching for and locating Docket No. FAA-2016-0461.

Related Service Information Under 1 CFR Part 51

Airbus has issued the following service information:

• Airbus Service Bulletin A320-52-1073, Revision 04, dated August 10, 1999.

• Airbus Service Bulletin A320-52-1073, Revision 05, dated September 28, 2006.

• Airbus Service Bulletin A320-52A1086, Revision 01, dated September 10, 1999.

• Airbus Service Bulletin A320-52-1096, Revision 02, dated July 12, 2006.

This service information describes procedures for inspections for cracking of the MLG door actuator fitting and its components, and corrective actions if necessary. This service information also describes procedures for replacement of all affected MLG door actuator fittings with new monoblock fittings. These documents are distinct since they apply to different airplane models. This service information is reasonably available because the interested parties have access to it through their normal course of business or by the means identified in the ADDRESSES section.

Comments

We gave the public the opportunity to participate in developing this proposed AD. We considered the comments received.

Support for the NPRM

A commenter, Kevin Grandberry, stated that he supports the inspections of the MLG door actuator fittings specified in the NPRM.

Request To Reduce the Compliance Time for Replacing the MLG Actuator Fitting

Airbus asked that we reduce the compliance time for the replacement specified in paragraph (j)(1) of the proposed AD (in the NPRM) from “whichever occurs later since the first flight of the airplane” to “whichever occurs first since the first flight of the airplane.” Airbus stated that EASA updated EASA AD 2014-0166, dated July 16, 2014 (referenced in the NPRM), to correct the error noted in the compliance time (among other changes).

We agree with the commenter's request in light of the superseded EASA AD, which corrects the compliance time. We have changed the compliance time specified in paragraph (j)(1) of this proposed AD accordingly.

Request To Change Applicability

United Airlines (UA) asked that we limit the applicability of the NPRM to the manufacturer serial numbers (MSNs) included in Airbus Service Bulletin A320-52-1073, Revision 05, dated September 28, 2006. UA did not provide a reason for the request.

We do not agree with the commenter's request. The effectivity of Airbus Service Bulletin A320-52-1073, Revision 05, dated September 28, 2006, is based on airplanes delivered with the affected parts. However, the parts are rotable and could be installed on MSNs other than those identified in Airbus Service Bulletin A320-52-1073, Revision 05, dated September 28, 2006. Therefore, this AD applies to all airplanes identified in paragraph (c) of this AD. We have not changed this proposed AD in this regard.

Request for Credit for Previous Accomplishment of the Optional Terminating Action

UA asked that we give credit for modifying the airplane (as specified in the optional terminating action in paragraph (k) of the proposed AD (in the NPRM)) using Airbus Service Bulletin A320-52-1073, Revision 04, dated August 10, 1999; or any prior revision. UA stated that accomplishing any revisions (including future revisions) would terminate the repetitive inspections required by paragraphs (g) and (h) of the proposed AD.

We partially agree with the request. We agree to include Airbus Service Bulletin A320-52-1073, Revision 04, dated August 10, 1999, in this proposed AD; however, we do not agree to allow the use of any prior version because changes to the installation procedures were added to Airbus Service Bulletin A320-52-1073, Revision 04, dated August 10, 1999, to prevent damage to the carbon fiber of the MLG door. We have added Airbus Service Bulletin A320-52-1073, Revision 04, dated August 10, 1999, as a method of compliance for the optional terminating action in paragraph (k) of this proposed AD.

Request To Extend the Compliance Time for the Inspections

Delta Air Lines (DAL) asked that we extend the compliance time specified in paragraphs (g) and (j)(2) of the proposed AD (in the NPRM). DAL stated that the FAA waited years to take any action on the subject unsafe condition and, in light of that fact, the “calendar date” for the compliance time in paragraph (g) of the proposed AD (in the NPRM) should be extended from 30 to 180 days. DAL also stated that using a calendar date for a crack growth concern is not based on industry-accepted analysis. DAL noted that mandating the inspections with this short interval has a significant impact on operators with multiple aircraft that are affected by the proposed AD. DAL added that an immediate safety concern is not evident in the speed with which the FAA moved to enact the regulatory action, or in the details provided in the NPRM. In addition, DAL asked that the compliance time in paragraph (j)(2) of the proposed AD (in the NPRM) be extended from 30 days to 24 months. DAL stated that operators would have difficulty complying with the 30-day compliance time for replacing the MLG door actuator fitting due to the extensive time necessary to modify each door. DAL added that the replacement should be done in a hangar environment where skilled composite facilities and technicians are available, which occurs every 24 months.

We do not agree with the commenter's requests. The compliance times in paragraphs (g) and (j)(2) of this proposed AD are based on EASA's assessment of the overall risk to the fleet, including the severity of the failure and the likelihood of the failure to occur. We are unaware of any information or data that substantiates the compliance time change the commenter has requested, and nothing was provided by the commenter to support the request. We also do not agree that FAA requirements related to crack growth are based on calendar time. The calendar time of 30 days, as retained in this proposed AD, is a grace period to provide additional time for airplanes that have exceeded their limit of validity of engineering data. All other compliance time requirements are based on flight cycles and flight hours.

We also note that since this is a SNPRM, operators will have additional time to plan for AD compliance. However, under the provisions of paragraph (n)(1) of this proposed AD, we will consider requests for approval of an extension of the compliance time if sufficient data are submitted to substantiate that the new compliance time would provide an acceptable level of safety. We have not changed this proposed AD in this regard.

Request To Include MLG Serial Numbers

DAL asked that we change paragraph (h) of the proposed AD (in the NPRM) to include the affected serial numbers of the left- and right-hand doors of the MLG. DAL stated that paragraph (g) of the proposed AD (in the NPRM) provides the door serial numbers to assist with identifying the affected doors, and similar information should be provided in paragraph (h) of the proposed AD (in the NPRM).

We agree with the commenter's request. Paragraph (4) of EASA AD 2016-0182, dated September 13, 2016, which corresponds to paragraph (h) of this proposed AD, identifies the affected serial numbers. It was not our intent to deviate from the MCAI. We have added the serial numbers to paragraph (h) of this proposed AD.

Request To Clarify Modification Titles

UA asked that we clarify the language in paragraph (l) of the proposed AD (in the NPRM) to add “or Airbus Modification” before each modification number specified.

We agree and have clarified paragraph (l) of this proposed AD accordingly.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this proposed AD affects 71 airplanes of U.S. registry.

We also estimate that it would take about 38 work-hours per product to comply with the inspection requirements of this proposed AD. The average labor rate is $85 per work-hour. Based on these figures, we estimate the cost for the inspection specified in this proposed AD on U.S. operators to be $229,330, or $3,230 per product.

We estimate that it would take about 98 work-hours per product to comply with the MLG actuator replacement requirements of this proposed AD. Required parts would cost about $6,258 per product. The average labor rate is $85 per work-hour. Based on these figures, we estimate the cost for the actuator replacement specified in this proposed AD on U.S. operators to be $1,035,748, or $14,588 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-0461; Directorate Identifier 2014-NM-159-AD.

(a) Comments Due Date

We must receive comments by May 22, 2017.

(b) Affected ADs

None.

(c) Applicability

This AD applies to the Airbus airplanes, certificated in any category, identified in paragraphs (c)(1), (c)(2), and (c)(3) of this AD, all manufacturer serial numbers.

(1) Model A319-111, -112, -113, -114, -115, -131, -132, and -133 airplanes.

(2) Model A320-211, -212, -214, -231, -232, and -233 airplanes.

(3) Model A321-111, -112, -131, -211, -212, -213, -231, and -232 airplanes.

(d) Subject

Air Transport Association (ATA) of America Code 52, Doors.

(e) Reason

This AD was prompted by a report that a main landing gear (MLG) door could not be closed due to rupture of the actuator fitting. Later reports indicated that the forward monoblock fitting of the MLG door actuator (referred to as the nerve area) could be damaged after rupture of the actuator fitting. We are issuing this AD to prevent rupture of the door actuator fittings, which could result in detachment of an MLG door and subsequent exterior damage and consequent reduced structural integrity of the airplane.

(f) Compliance

Comply with this AD within the compliance times specified, unless already done.

(g) Repetitive Inspections of MLG Door Actuator Fittings

For airplanes equipped with MLG door actuator fittings having part number (P/N) D52880224000 or P/N D52880224001 that were installed before the first flight of the airplane on MLG doors identified in paragraphs (g)(1) and (g)(2) of this AD: Within 500 flight hours since the most recent high frequency eddy current (HFEC) inspection done as specified in Airbus Service Bulletin A320-52A1086, Revision 01, dated September 10, 1999, or within 30 days after the effective date of this AD, whichever occurs later, perform an HFEC inspection for cracking of the MLG door fittings, in accordance with the Accomplishment Instructions of Airbus Service Bulletin A320-52A1086, Revision 01, dated September 10, 1999. Repeat the inspection thereafter at intervals not to exceed 500 flight hours, except as provided by paragraphs (i), (j), and (k) of this AD.

(1) Left-hand MLG doors with serial numbers (S/Ns) 1206 through 1237 inclusive, 1239 through 1247 inclusive, and 1249 through 1251 inclusive.

(2) Right-hand MLG doors with S/Ns 1208 through 1239 inclusive, 1241 through 1249 inclusive, and 1251.

(h) Repetitive Inspections of MLG Hinge and Nerve Areas

For airplanes equipped with MLG door actuator fittings having P/N D52880224000, P/N D52880224001, P/N D52880235000, or P/N D52880235001 that were installed before the first flight of the airplane on MLG doors identified in paragraphs (h)(1) and (h)(2) of this AD: Within 400 flight cycles after the effective date of this AD, or before the accumulation of 9,000 total flight cycles since first flight of the airplane, whichever occurs later, perform an HFEC inspection of both hinge and nerve areas of the MLG doors for cracking, in accordance with the Accomplishment Instructions of Airbus Service Bulletin A320-52-1096, Revision 02, dated July 12, 2006. Repeat the inspection thereafter at intervals not to exceed 800 flight cycles, except as provided by paragraphs (i)(1), (j), and (k) of this AD.

(1) Left-hand MLG doors with S/Ns 1206 through 1510 inclusive, 1548, 1564, and 2000 through 2065 inclusive.

(2) Right-hand MLG doors with S/Ns 1208 through 1519 inclusive, 1551, and 2000 through 2065 inclusive.

(i) Inspections/Corrective Actions

(1) If any crack is found during any inspection required by paragraph (g) or (h) of this AD: Before further flight, replace the affected MLG door actuator fittings with new monoblock fittings, in accordance with the Accomplishment Instructions of Airbus Service Bulletin A320-52-1073, Revision 05, dated September 28, 2006. Accomplishing this replacement terminates the repetitive inspections required by paragraphs (g) and (h) of this AD.

(2) If, during any HFEC inspection required by paragraph (g) of this AD, no crack is found: Before further flight, perform a low frequency eddy current (LFEC) inspection to determine the grain direction of the raw material of each MLG actuator fitting, in accordance with the Accomplishment Instructions of Airbus Service Bulletin A320-52A1086, Revision 01, dated September 10, 1999.

(i) If the grain direction of the raw material is correct, the repetitive inspections required by paragraph (g) of this AD may be terminated.

(ii) If the grain direction of the raw material is incorrect, repeat the HFEC inspection required by paragraph (g) of this AD at the time specified in paragraph (g) of this AD. Replacement of the MLG door actuator fittings with new monoblock fittings as specified in paragraph (i)(1) of this AD terminates the repetitive inspections required by paragraphs (g) and (i) of this AD.

(j) MLG Door Actuator Fitting Replacement

For airplanes equipped with any MLG door actuator fitting having P/N D52880102000, P/N D52880102001, P/N D52880220000, P/N D52880220001, P/N D52880224000, P/N D52880224001, P/N D52880235000, or P/N D52880235001: At the later of the times specified in paragraphs (j)(1) and (j)(2) of this AD, replace the MLG door actuator fittings with new monoblock fittings, in accordance with the Accomplishment Instructions of Airbus Service Bulletin A320-52-1073, Revision 05, dated September 28, 2006. Accomplishing this replacement terminates the repetitive inspections required by paragraphs (g) and (h) of this AD.

(1) Before the accumulation of 48,000 total flight cycles or 96,000 total flight hours on the MLG door, whichever occurs first.

(2) Within 30 days after the effective date of this AD.

(k) Optional Terminating Action

Replacement of the MLG door actuator fittings with new monoblock fittings, in accordance with the Accomplishment Instructions of Airbus Service Bulletin A320-52-1073, Revision 04, dated August 10, 1999; or Airbus Service Bulletin A320-52-1073, Revision 05, dated September 28, 2006; terminates the repetitive inspections required by paragraphs (g) and (h) of this AD.

(l) Airplanes Excluded From Certain AD Requirements

(1) For airplanes on which Airbus Modification 24903, or Airbus Modification 25372, or Airbus Modification 36979 has been embodied in production, no action is required by this AD, provided that no MLG door actuator fitting having any part number identified in paragraph (j) of this AD has been reinstalled on the airplane since first flight.

(2) Modification of an airplane by installing a version (P/N) of the MLG door actuator fitting approved after the effective date of this AD is acceptable for compliance with the requirements in paragraph (j) of this AD, provided the conditions specified in paragraphs (l)(2)(i) and (l)(2)(ii) are met.

(i) The MLG door actuator fitting (P/N) must be approved by the Manager, International Branch, ANM-116, Transport Airplane Directorate, FAA; or the European Aviation Safety Agency (EASA); or Airbus's EASA Design Organization Approval (DOA).

(ii) The modification must be accomplished in accordance with instructions approved by the Manager, International Branch, EASA, or Airbus's EASA DOA.

(m) Parts Installation Limitation

As of the effective date of this AD, no person may install an MLG door actuator fitting having any part number identified in paragraph (j) of this AD on any airplane.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the EASA; or Airbus's EASA Design Organization Approval (DOA). If approved by the DOA, the approval must include the DOA-authorized signature.

(o) Related Information

(1) Refer to Mandatory Continuing Airworthiness Information (MCAI) EASA Airworthiness Directive 2016-0182, dated September 13, 2016, for related information. This MCAI may be found in the AD docket on the Internet at http://www.regulations.gov by searching for and locating Docket No. FAA-2016-0461.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on March 29, 2017.
Dionne Palermo,
Acting Manager, Transport Airplane Directorate, Aircraft Certification Service.

[FR Doc. 2017-06705 Filed 4-6-17; 8:45 am]

BILLING CODE 4910-13-P